DEPARTMENT OF THE INTERIOR

Bureau of Land Management

[LLCAN0600, L16100000]

Notice of Intent To Prepare a Resource Management Plan Amendment and Associated Environmental Assessment for the Designation of the Lower Clear Creek and Grass Valley Creek Areas of Critical Environmental Concern, Redding, CA

AGENCY: Bureau of Land Management, Interior.

ACTION: Notice of intent.

SUMMARY: In compliance with the National Environmental Policy Act of 1969 (NEPA), as amended, and the Federal Land Policy and Management Act of 1976, as amended, the Bureau of Land Management (BLM) Redding Field Office, California intends to prepare an amendment to the Redding Resource Management Plan (RMP) with an associated Environmental Assessment (EA), and by this notice is announcing the beginning of the scoping process to solicit public comments and identify issues.

DATES: This notice initiates the public scoping process for the plan amendment and associated EA. Comments on issues may be submitted in writing until March 29, 2010. The dates and locations of any scoping meetings will be announced at least 15 days in advance through local media, newspapers and the BLM Web site at: http://www.blm.gov/ca/st/en/fo/redding/redding_rmp.html. In order to be included in the EA, all comments must be received prior to the close of the scoping period or 15 days after the last public meeting, whichever is later.

ADDRESSES: You may submit comments on issues and planning criteria related to the project by any of the following methods:

• Web site: www.blm.gov/ca/redding.

• E-mail: caweb360@ca.blm.gov.

• Fax: (530) 224-2172.

• Mail: Bureau of Land Management, Redding Field Office, 355 Hemsted Drive, Redding, California 96002.

Documents pertinent to this proposal may be examined at the Redding Field Office.

FOR FURTHER INFORMATION CONTACT: For further information and/or to have your name added to our mailing list, contact Francis Berg, telephone (530) 224-2120; address 355 Hemsted Drive, Redding, California 96002; e-mail fberg@blm.gov.

SUPPLEMENTARY INFORMATION: This document provides notice that the BLM's Redding Field Office intends to prepare an RMP Amendment with an associated EA to consider the designation of the Lower Clear Creek (in western Shasta County) and Grass Valley Creek (in eastern Trinity County) as Areas of Critical Environmental Concern (ACEC). This document also announces the beginning of the scoping process and seeks public input on issues and planning criteria. Designation of one or both of the ACECs would require an amendment to the Redding RMP (1993). The two areas encompass approximately 15,000 acres of public land administered by the Redding Field Office. Designation of these two areas as ACECs would provide enhanced opportunities for conservation of fisheries including special status species.

The purpose of the public scoping process is to determine relevant issues that will influence the scope of the amendment and EA, including alternatives, and guide the development of the amendment and EA. The BLM will use an interdisciplinary approach in developing the amendment and EA to ensure reasonable consideration of each issue and the impacts of the ACEC designations. Preliminary issues for the planning areas include: Botany; wildlife; fisheries; archaeology and cultural resources; minerals, geology; forestry; lands and realty; soils; hydrology; outdoor recreation; and law enforcement.

You may submit comments on issues and planning criteria in writing to the BLM using one of the methods listed in the ADDRESSES section above. To be most helpful, you should submit comments within 30 days after publication of this notice. Native American Tribal consultations will be conducted, and Tribal concerns will be given due consideration, including impacts on Indian trust assets. Federal, state, and local agencies, along with other stakeholders that may be interested or affected by the BLM's decision on this project are invited to participate in the scoping process and, if eligible, may participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7; 43 CFR 1610.2; 1610.5-5; and 1610.7-2.

Steven W. Anderson,
Redding Field Office Manager.

[FR Doc. 2010-3821 Filed 2-24-10; 8:45 am]

BILLING CODE 4310-40-P